CONSUMER PRODUCT SAFETY COMMISSION

Sunshine Act Meeting Notice

TIME AND DATE: Tuesday, December 14, 2021 10:00 a.m.-12:30 p.m.

PLACE: This meeting will be held remotely.

STATUS: Commission Meeting—Open to the Public.

MATTERS TO BE CONSIDERED:

Decisional Matters

Proposed Rule: Safety Standard for Magnets; and

Notices of Proposed Rulemaking to (1) Add Window Covering Cords to the Substantial Product Hazard List, and (2) Establish a Safety Standard for Operating Cords on Custom Window Coverings.

All attendees should preregister for the Commission Meeting at the following link: https://attendee.gotowebinar.com/register/5506548165419382288.

CONTACT PERSON FOR MORE INFORMATION: Alberta E. Mills, Office of the Secretary, U.S. Consumer Product Safety Commission, 4330 East-West Highway, Bethesda, MD 20814, 301-504-7479 (Office) or 240-863-8938 (Cell).

Dated: December 3, 2021.
Alberta E. Mills,
Commission Secretary.

[FR Doc. 2021-26631 Filed 12-6-21; 11:15 am]

BILLING CODE 6355-01-P